COMMISSION ON CIVIL RIGHTS

Notice of Public Meeting of the Washington Advisory Committee

AGENCY: U.S. Commission on Civil Rights.

ACTION: Announcement of virtual briefings.

SUMMARY: Notice is hereby given, pursuant to the provisions of the rules and regulations of the U.S. Commission on Civil Rights (Commission) and the Federal Advisory Committee Act that the Washington Advisory Committee (Committee) will hold various virtual briefings via ZoomGov platform on the dates and times listed below. The purpose of these briefings is to gather testimony on physical accessiability in the state of Washington.

DATES: These meetings will take place on:

• Monday, June 26, 2023, from 12:00 p.m.-2:00 p.m. PT

• Tuesday, June 27, 2023, from 10:00 a.m.-12:00 p.m. PT

• Tuesday, June 27, 2023, from 2:00 p.m.-4:00 p.m. PT

Zoom Registertion Link For All Three Briefings:

https://www.zoomgov.com/meeting/register/vJItduygpzgvHTPizdMONsSBk2ic6s4Xovc.

FOR FURTHER INFORMATION CONTACT: Brooke Peery, DFO, at bpeery@usccr.gov or (202) 701-1376.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captions will be provided for individuals who are deaf or hard of hearing. To request additional accommodations, please email bpeery@usccr.gov at least 10 business days prior to the meeting.

Members of the public are also entitled to submit written comments; the comments must be received in the Regional Programs Unit within 30 days following the meeting. Written comments may be emailed to Brooke Peery at bpeery@usccr.gov. Persons who desire additional information may contact the Regional Programs Unit Office/Advisory Committee Management Unit at (202) 701-1376.

Records generated from this meeting may be inspected and reproduced at the Regional Programs Unit Office, as they become available, both before and after the meeting. Records of the meeting will be available at: https://www.facadatabase.gov/FACA/FACAPublicViewCommitteeDetails?id=a10t0000001gzkZAAQ.

Please click on the “Meeting Details” and “Documents” links. Persons interested in the work of this Committee are also directed to the Commission's website, http://www.usccr.gov, or you may contact the Regional Programs Unit office at the above email address.

Agenda

I. Welcome & Opening Remarks

II. Panelists Remarks

III. Committee Q&A

IV. Public Comment

V. Adjournment

Dated: April 11, 2023.
David Mussatt,
Supervisory Chief, Regional Programs Unit.

[FR Doc. 2023-07967 Filed 4-14-23; 8:45 am]

BILLING CODE 6335-01-P